NATIONAL FOUNDATION ON THE ARTS AND THE HUMANITIES

National Endowment for the Arts; Submission for OMB Review: Comment Request

January 18, 2007.

The National Endowment for the Arts (NEA) has submitted the following public information collection request (ICR) to the Office of Management and Budget (OMB) for review and approval in accordance with the Paperwork Reduction Act of 1995 [Pub. L. 104-13, 44 U.S.C. Chapter 35]. Copies of this ICR, with applicable supporting documentation, may be obtained by contacting Tom Bradshaw via telephone at 202-682-5527 (this is not a toll-free number) or e-mail at bradshwt@arts.endow.gov. Individuals who use a telecommunications device for the deaf (TTY/TDD) may call 202-682-5496 between 10 a.m. and 4 p.m. Eastern time, Monday through Friday.

Comments should be sent to the Office of Information and Regulatory Affairs, Attn: OMB Desk Officer for the National Endowment for the Arts, Office of Management and Budget, Room 10235, Washington, DC 20503 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submissions of responses.

Agency: National Endowment for the Arts.

Title: 2008 Survey of Public Participation in the Arts.

OMB Number: New.

Frequency: One Time.

Affected Public: Individuals or households.

Estimated Number of Respondents: 20,000.

Estimated Time Per Respondent: 10 minutes.

Total Burden Hours: 3,333.

Total Annualized Capital/Startup Costs: 0.

Total Annual Costs (Operating/Maintaining Systems or Purchasing Services): 0.

Description: The National Endowment for the Arts proposes to conduct a national Survey of Public Participation in the Arts (SPPA) as a supplement to the Census Bureau's Current Population Survey in May 2008. The survey will provide information on the extent to which the adult population participates in the arts. Responses will be analyzed to determine arts participation patterns and differences by population subgroup and geography and changes from prior SPPA's conducted in 1982, 1985, 1992, 1997, and 2002. The survey results and subsequent analyses will be used by arts administrators, researchers, and policymakers at the national, State, and local levels.

ADDRESSES: Tom Bradshaw, National Endowment for the Arts, 1100 Pennsylvania Avenue, NW., Room 616, Washington, DC 20506-0001, telephone 202-682-5527 (this is not a toll-free number), fax 202/682-5677.

Murray Welsh,
Director, Administrative Services, National Endowment for the Arts.

[FR Doc. E7-724 Filed 1-18-07; 8:45 am]

BILLING CODE 7537-01-P